DEPARTMENT OF COMMERCE

National Oceanic and Atmospheric Administration

[RTID 0648-XC338]

Gulf of Mexico Fishery Management Council; Public Hearings

AGENCY: National Marine Fisheries Service (NMFS), National Oceanic and Atmospheric Administration (NOAA), Commerce.

ACTION: Notice; public hearings and webinar.

SUMMARY: The Gulf of Mexico Fishery Management Council (Council) will hold five in-person public hearings and one webinar to solicit public comments on Modifications to Greater Amberjack Catch Limits and Sector Allocation.

DATES: The public hearings will take place September 26-October 11, 2022. The in-person public hearings and webinar will begin at 6 p.m. and will conclude no later than 9 p.m., EDT. For specific dates and times, see SUPPLEMENTARY INFORMATION. Written public comments must be received on or before 5 p.m. EDT on Tuesday, October 18, 2022.

ADDRESSES: Please visit the Gulf Council website at www.gulfcouncil.org for meeting materials and webinar registration information.

Meeting addresses: The public hearings will be held in Madeira Beach and Marathon, FL; Galveston Island, TX; Kenner, LA; Orange Beach, AL; and one virtual. For specific locations, see SUPPLEMENTARY INFORMATION.

Public comments: Comments may be submitted online through the Council's public portal by visiting www.gulfcouncil.org and clicking on “CONTACT US”.

FOR FURTHER INFORMATION CONTACT: Emily Muehlstein; Public Information Officer; emily.muehlstein@gulfcouncil.org, Gulf of Mexico Fishery Management Council; telephone: (813) 348-1630.

SUPPLEMENTARY INFORMATION: The agenda for the following five in-person public hearings and one webinar is as follows: Council staff will begin with a presentation on the purpose, need, and management options in Reef Fish Amendment 54. The Council is currently considering modifications to Greater Amberjack catch limits and sector allocations.

Staff and a Council member will be available to answer any questions, and the public will have the opportunity to provide testimony on the amendment and other related testimony.

In-Person Locations and Webinar:

Monday, September 26, 2022; The City Centre at City Hall, 300 Municipal Dr, Madeira Beach, FL 33708; (727) 391-9951.

Monday, October 3, 2022; Marathon Government Center, 2798 Overseas Highway, Marathon, FL 33050; (305) 289-6036.

Tuesday, October 4, 2022; Hilton Galveston Island Resort, 5400 Seawall Boulevard, Galveston, TX 77551; (409) 744-5000.

Wednesday, October 5, 2022; Doubletree New Orleans Airport, 2150 Veterans Memorial Boulevard, Kenner, LA 70062; (504) 467-3111.

Thursday, October 6, 2022; Adult Activity Center, 26251 Canal Road, Orange Beach, AL 36561; (251) 981-3440.

Tuesday, October 11, 2021; via webinar. Visit www.gulfcouncil.org website and click on the “meetings” tab for registration information. After registering, you will receive a confirmation email containing information about joining the webinar.

Special Accommodations

These hearings are physically accessible to people with disabilities. Requests for sign language interpretation or other auxiliary aids should be directed to Kathy Pereira (see ADDRESSES), at least 5 working days prior to the hearing date.

Authority: 16 U.S.C. 1801 et seq.

Dated: September 2, 2022.
Rey Israel Marquez,
Acting Deputy Director, Office of Sustainable Fisheries, National Marine Fisheries Service.

[FR Doc. 2022-19423 Filed 9-7-22; 8:45 am]

BILLING CODE 3510-22-P